DEPARTMENT OF ENERGY

Federal Energy Regulatory Commission

Combined Notice of Filings #1

March 22, 2010.

Take notice that the Commission received the following electric rate filings:

Docket Numbers: ER00-2469-005

Applicants: Williams Flexible Generation, LLC

Description: Notice of Non-Material Change in Status of Williams Flexible Generation, LLC.

Filed Date: 03/19/2010.

Accession Number: 20100319-5093.

Comment Date: 5 p.m. Eastern Time on Friday, April 9, 2010.

Docket Numbers: ER10-892-000.

Applicants: Southern Turner Cimarron I, LLC.

Description: Southern Turner Cimarron I, LLC submits a Market-Based Rate Tariff, etc.

Filed Date: 03/19/2010.

Accession Number: 20100319-0217.

Comment Date: 5 p.m. Eastern Time on Friday, April 9, 2010.

Docket Numbers: ER10-903-000.

Applicants: Patriot Power LLC.

Description: Patriot Power LLC submits the Petition for Acceptance of Initial Tariff, Waivers and Blanket Authority.

Filed Date: 03/19/2010.

Accession Number: 20100319-0216.

Comment Date: 5 p.m. Eastern Time on Friday, April 9, 2010.

Docket Numbers: ER10-904-000.

Applicants: NFI Solar, LLC.

Description: Application for market- based rate authority, request for waivers and authorizations, and request for finding of qualification as Category 1 Seller, and for expedited consideration re NFI Solar, LLC.

Filed Date: 03/19/2010.

Accession Number: 20100322-0201.

Comment Date: 5 p.m. Eastern Time on Monday, April 5, 2010.

Docket Numbers: ER10-906-000.

Applicants: Southern California Edison Company.

Description: Southern California Edison Company submits a revised rate sheet to the Service Agreement for Wholesale Distribution Service and an amended Interconnection Facilities Agreement with BP West Coast Products etc.

Filed Date: 03/18/2010.

Accession Number: 20100318-0205.

Comment Date: 5 p.m. Eastern Time on Thursday, April 8, 2010.

Docket Numbers: ER10-908-000.

Applicants: FirstEnergy Service Company.

Description: Jersey Central Power & Light Company et al. submits Notice of Cancellation of the Capacity, Energy and Capacity Credit Sales Tariff currently on file with the Commission, FERC Electric Tariff, Second Revised Volume 1.

Filed Date: 03/18/2010.

Accession Number: 20100319-0202.

Comment Date: 5 p.m. Eastern Time on Thursday, April 8, 2010.

Docket Numbers: ER10-909-000.

Applicants: Gilroy Energy Center, LLC.

Description: Gilroy Energy Center, LLC submits its Reliability Must-Run Agreement. Part 1 of 3.

Filed Date: 03/18/2010.

Accession Number: 20100319-0204.

Comment Date: 5 p.m. Eastern Time on Thursday, April 8, 2010.

Docket Numbers: ER10-910-000.

Applicants: PJM Interconnection, LLC.

Description: PJM Interconnection, LLC submits executed interim interconnection service agreement with Exelon Generation Company, LLC et al.

Filed Date: 03/18/2010.

Accession Number: 20100319-0201.

Comment Date: 5 p.m. Eastern Time on Thursday, April 8, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2010-7008 Filed 3-29-10; 8:45 am]

BILLING CODE 6717-01-P